FEDERAL COMMUNICATIONS COMMISSION

Notice of Public Information Collection(s) Being Submitted for Review to the Office of Management and Budget

November 22, 2006.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 29, 2007. If you anticipate that you will be submitting PRA comments, but find it difficult to do so within the period of time allowed by this notice, you should advise the FCC contact listed below as soon as possible.

ADDRESSES: Direct all PRA comments to Allison E. Zaleski, Office of Management and Budget, Room 10236 NEOB, Washington, DC 20503, (202) 395-6466, or via fax at 202-395-5167 or via internet at Allison_E._Zaleski@eop.omb.gov and to Judith-B.Herman@fcc.gov, Federal Communications Commission, Room 1-B441, 445 12th Street, SW., DC 20554 or an e-mail to PRA@fcc.gov. If you would like to obtain or view a copy of this information collection after the 60 day comment period, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control Number: 3060-0496.

Title: The ARMIS Operating Data Report.

Report No.: FCC Report 43-08.

Type of Review: Extension of a currently approved collection.

Respondents: Business or other for-profit.

Number of Respondents: 56 respondents; 56 responses.

Estimated Time Per Response: 139 hours.

Frequency of Response: Annual reporting requirement.

Obligation to Respond: Mandatory.

Total Annual Burden: 7,784 hours.

Total Annual Cost: N/A.

Privacy Act Impact Assessment: N/A.

Nature and Extent of Confidentiality: The Commission contends that areas in which detailed information is required are fully subject to regulation and the issue of data being regarded as sensitive will arise in special circumstances only. In such circumstances, respondents are instructed on the appropriate procedures to follow to safeguard sensitive information. If respondents wish to submit information which they believe is confidential, they may request confidential treatment of such information under 47 CFR 0.459 of the Commission's rules.

Needs and Uses: The Commission will submit this information collection to OMB as an extension (no change in reporting requirements) after this 60 day comment period to obtain the full three-year clearance from them.

ARMIS (Automated Reporting and Management Information Systems) was implemented to facilitate the timely and efficient analysis of revenue requirements, rates of return and price caps; to provide an improved basis for audits and other oversight functions; and to enhance the Commission's ability to quantify the effects of alternative policy. The Operating Data Report, FCC Report 43-08, collects annual statistical data in a consistent format that is essential for the Commission to monitor network growth, usage, and reliability. The information contained in the ARMIS Report 43-08 provides the necessary detail to enable the Commission to fulfill its regulatory responsibilities. Automated reporting of these data greatly enhances the Commission's ability to process and analyze the extensive amounts of data that are needed to administer its rules. Automating and organizing data submitted to the Commission facilitate the timely and efficient analysis of revenue requirements, rate of return and price caps, provide an improved basis for auditing and other oversight functions and enhance the Commission's ability to quantify the effects of policy proposals.

OMB Control Number: 3060-0895.

Title: Numbering Resource Optimization, CC Docket No. 99-200.

Form No.: FCC Form 502.

Type of Review: Revision of a currently approved collection.

Respondents: Business or other for-profit and state, local or tribal government.

Number of Respondents: 2,780 respondents; 2,780 responses.

Estimated Time Per Response: 48 hours.

Frequency of Response: On occasion and semi-annual reporting requirements and recordkeeping requirement.

Obligation to Respond: Mandatory.

Total Annual Burden: 133,370 hours.

Total Annual Cost: $7,858,650.

Privacy Act Impact Assessment: N/A.

Nature and Extent of Confidentiality: Disaggregated, carrier specific forecast and utilization data will be treated as confidential and will be exempt from public disclosure under 5 U.S.C. Section 552(b)(4).

Needs and Uses: The Commission will submit this information collection to OMB as a revision after this 60 day comment period to obtain the full three-year clearance from them. Carriers that receive numbering resources from the North American Numbering Plan (NANP) Administrator or that receive numbering resources from the Pooling Administrator in thousand-blocks must report forecast and utilization data semi-annually. These carriers are also required to maintain detailed internal records of their number usage. Carriers must file applications for initial and growth numbering resources. The information will be used by FCC, state regulatory commissions, and the NANP administrator to monitor numbering resource utilization and to project the date of area code and NANP exhaust. The total annual burden hours have been reduced to adjust for the elimination of a one-time reporting requirement for cost data support.

OMB Control Number: 3060-0942.

Title: Access Charge Reform, Price Cap Performance Review for Local Exchange Carriers, Low-Volume Long Distance Users, Federal-State Joint Board on Universal Service.

Form No.: N/A.

Type of Review: Extension of a currently approved collection.

Respondents: Business or other for-profit.

Number of Respondents: 759 respondents; 759 responses.

Estimated Time Per Response: 28.09 hours (average).

Frequency of Response: On occasion, annual, quarterly reporting requirements, recordkeeping requirement and third party disclosure requirement.

Total Annual Burden: 21,321 hours.

Obligation to Respond: Required to obtain or retain benefits.

Total Annual Cost: N/A.

Privacy Act Impact Assessment: N/A.

Nature and Extent of Confidentiality: The Commission is not requesting respondents to submit confidential information to the Commission or to USAC. If the Commission requests respondents to submit information to the Commission that the respondents believe are confidential, respondents may request confidential treatment of such information pursuant to 47 CFR 0.459 of the Commission's rules.

Needs and Uses: The Commission will submit this information collection to OMB as an extension (no change in reporting requirements, recordkeeping requirement and/or third party disclosure requirement) after this 60 day comment period to obtain the full three-year clearance from them.

When the Commission adopted a Report and Order, it took action to further accelerate the development of competition in the local and long-distance telecommunications market, and to further establish explicit universal service support that will be sustainable in an increasingly competitive marketplace, pursuant to the mandate of the Telecommunications Act of 1996 (1996 Act). The Commission requires the following information to be reported under the Coalitions for Affordable Local and Long Distance Service (CALLS) Proposal: tariff filing, quarterly and annual data filings and cost support information.

OMB Control Number: 3060-1044.

Title: Review of the Section 251 Unbundling Obligations of Incumbent Local Exchange Carriers, CC Docket No. 01-338 and WC Docket No. 04-313, Order on Remand.

Form No.: N/A.

Type of Review: Revision of a currently approved collection.

Respondents: Business or other for-profit.

Number of Respondents: 645 respondents; 645 responses.

Estimated Time Per Response: 8 hours.

Frequency of Response: On occasion reporting requirement.

Total Annual Burden: 5,160 hours.

Obligation to Respond: Required to obtain or retain benefits.

Total Annual Cost: $103,200.

Privacy Act Impact Assessment: N/A.

Nature and Extent of Confidentiality: The Commission is not requesting respondents to submit confidential information to the Commission. However, in certain circumstances, respondents may voluntarily choose to submit confidential information pursuant to applicable confidentiality rules.

Needs and Uses: The Commission will submit this information collection to OMB as a revision after this 60 day comment period to obtain the full three-year clearance from them.

In FCC 03-36 (Order) the Commission adopted rules and regulations designed to eliminate operational barriers to competition in the telecommunications services market and implement certain provisions of Section 251, including the unbundled network elements (UNE) obligations of incumbent local exchange carriers (LECs). In the Order on Remand (FCC 04-290) the Commission responded to a decision by the United States Court of Appeals for the District of Columbia that vacated the “sub-delegation” of authority to state commissions and vacated and remanded certain nationwide impairment findings, including mass market switching and dedicated transport. This resulted in the removal of the “State Commission UNE Proceeding” section of this collection.

Federal Communications Commission.
Marlene H. Dortch,
Secretary.

[FR Doc. E6-20243 Filed 11-28-06; 8:45 am]

BILLING CODE 6712-01-P